DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final within the meaning of 23 U.S.C. 139(l)(1). The actions relate to a proposed highway project, Centennial Corridor Project on State Route 58 from Cottonwood Road to Interstate 5 and State Route 99 from Wilson Road to Gilmore Avenue in the County of Kern, State of California. Those actions grant licenses, permits, and approvals for the project.

DATES: By this notice, the FHWA, on behalf of Caltrans, is advising the public of final agency actions subject to U.S.C § 139(l)(1). A claim seeking judicial review of the Federal agency actions on the highway project will be barred unless the claim is filed on or before July 18, 2016. If the Federal law that authorizes judicial review of a claim provides a time period of less than 150 days for filing such claim, then that shorter time period still applies.

FOR FURTHER INFORMATION CONTACT: Jennifer H. Taylor, Office Chief, California Department of Transportation District 6, 855 M Street, Suite 200, Fresno, CA 93721, during normal business hours from 8:00 a.m. to 5:00 p.m., Telephone number (888) 404-6375, email: Jennifer.taylor@dot.ca.gov.

SUPPLEMENTARY INFORMATION: Effective July 1, 2007, the FHWA assigned, and the Caltrans assumed environmental responsibilities for this project pursuant to 23 U.S.C. 327. Notice is hereby given that Caltrans has taken final agency actions subject to U.S.C § 139(l)(1) by issuing licenses, permits, and approvals for the Centennial Corridor Project in the State of California.

Caltrans, in cooperation with the City of Bakersfield, proposes to construct a freeway on a new alignment for State Route 58 and make improvements to the existing State Route 99. The new alignment for State Route 58 will provide a continuous route along State Route 58 from Cottonwood Road (post mile R55.6) on existing State Route 58 (East), east of State Route 99 to Interstate 5 (post mile T31.7). Improvements to State Route 99 from Wilson Road (post mile 21.2) to Gilmore Avenue (post mile 26.2) will also be required for the connection with State Route 58. The project is intended to provide route continuity and associated traffic congestion relief. The Federal ID number for the Centennial Corridor Project is NCIIP 5109 (106).

The actions by the Federal agencies, and the laws under which such actions were taken, are described in the Final Environmental Impact Statement (FEIS) for the project, approved on December 4, 2015, in the Record of Decision (ROD) issued on February 8, 2016, and in other documents in the FHWA project records. The FEIS, ROD and other project records are available by contacting Caltrans at the address provided above. The Caltrans FEIS and ROD can be viewed and downloaded from the project Web site at: http://dot.ca.gov/dist6/environmental/projects/centennial/EnvironmentalDocuments.html or viewed at public libraries in the project area. This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Clean Air Act [42 U.S.C. 7401-7671(q)].

3. Section 4(f) of the U.S. Department of Transportation Act of 1966 [49 U.S.C. 303].

4. Endangered Species Act [16 U.S.C. 1531-1544 and Section 1536], Fish and Wildlife Coordination Act [16 U.S.C. 661-667(d)], Migratory Bird Treaty Act [16 U.S.C. 703-712].

5. Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Land and Water Conservation Fund (LWCF) [16 U.S.C. 4601-4604]; Clean Water Act 33 U.S.C. 1251-1387.

7. Farmland Protection Policy Act [7 U.S.C. 4201-4209 and its regulations].

8. E.O. 11990 Protection of Wetlands; E.O. 11988 Floodplain Management; E.O. 12898, Federal Actions to Address Environmental Justice in Minority Populations and Low Income Populations; E.O. 11593 Protection and Enhancement of Cultural Resources; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: February 11, 2016.
Gary Sweeten,
North Team Leader, Project Delivery, Federal Highway Administration, Sacramento, California.

[FR Doc. 2016-03306 Filed 2-17-16; 8:45 am]

BILLING CODE 4910-RY-P